DEPARTMENT OF ENERGY

Federal Energy Regulatory Commission

[Project No. 1888-043]

York Haven Power Company, LLC; Notice of Availability of Environmental Assessment

In accordance with the National Environmental Policy Act of 1969 and the Federal Energy Regulatory Commission's (Commission or FERC) regulations, 18 CFR part 380, Commission staff reviewed York Haven Power Company, LLC's (licensee) application for a non-capacity amendment of the license for the York Haven Hydroelectric Project No. 1888 and have prepared an Environmental Assessment (EA). The licensee proposes to amend its project license to reflect a change in the design of the nature-like fishway required by Article 401 of the project license, Pennsylvania Department of Environmental Protection's Water Quality Certificate, and U.S. Fish and Wildlife Service's fishway prescription. The proposed design change would result in the construction of an inland nature-like fishway rather than the in-river fishway currently required by the license. The York Haven project is located in York, Dauphin, and Lancaster counties in south central Pennsylvania. The project is not located on federal lands.

The EA contains Commission staff's analysis of the potential environmental effects of the proposed change in nature-like fishway design, alternatives to the proposed action, and concludes that the proposed amendment, with appropriate environmental protective measures, would not constitute a major federal action that would significantly affect the quality of the human environment.

The EA may be viewed on the Commission's website at http://www.ferc.gov using the “elibrary” link. Enter the docket number (P-1888) in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

For further information, contact Joy Kurtz at 202-502-6760 or joy.kurtz@ferc.gov.

Dated: April 2, 2024.
Debbie-Anne A. Reese,
Acting Secretary.

[FR Doc. 2024-07417 Filed 4-5-24; 8:45 am]

BILLING CODE 6717-01-P